DEPARTMENT OF ENERGY

Federal Eergy Regulatory Commission

[Docket No. ER01-1695-001, et al.]

Boston Edison Company, et al.; Electric Rate and Corporate Regulation Filings

October 17, 2001.

Take notice that the following filings have been made with the Commission:

1. Boston Edison Company, Cambridge Electric Light Company, Commonwealth Electric Company

[Docket No. ER01-1695-001, Docket No. ER01-1695-003, Docket No. ER01-1705-001, Docket No. ER01-1705-003, Docket No. ER01-1782-001, Docket No. ER01-1782-003]

Take notice that on October 12, 2001, Boston Edison Company, Cambridge Electric Light Company and Commonwealth Electric Company (the NSTAR Companies) tendered for filing with the Federal Energy Regulatory Commission (Commission) Attachment K to their respective Open Access Transmission Tariffs, “Standard Form of Interconnection Agreement” in compliance with the Commission's August 13, 2001 and September 12, 2001 orders in the above-referenced dockets. Cambridge Electric Light Company, et al., 96 FERC 61,205, and Cambridge Electric Light Company, et al., 96 FERC 61,269.

Comment date: November 2, 2001, in accordance with Standard Paragraph E at the end of this notice.

2. Southern Company Services, Inc.

[Docket No. ER01-2854-001]

Take notice that on October 12, 2001, Southern Company Services, Inc. (SCS), acting on behalf of Alabama Power Company, Georgia Power Company, Gulf Power Company, Mississippi Power Company, and Savannah Electric and Power Company (collectively referred to as Southern Companies), resubmitted to the Federal Energy Regulatory Commission (Commission) Amendment No. 2 to the Agreement for Network Integration transmission Service for Alabama Electric Cooperative, Inc., under Southern Companies Open Access transmission tariff to Add Delivery Points. This refiling is made in compliance with FERC's letter order accepting Amendment No. 2 for filing dated September 14, 2001 in FERC Docket No. ER01-2854-000. Amendment No. 2 provides that transmission service under the referenced service agreement (Service Agreement No. 225 under Southern Companies Open Access Transmission Tariff (FERC Electric Tariff Original Volume No. 5) is to be provided at two new delivery points and it specifies the estimated Direct Assignment Facility Charges for these additional delivery points.

Comment date: November 2, 2001, in accordance with Standard Paragraph E at the end of this notice.

3. ISO New England Inc.

[Docket No. ER01-316-004]

Take notice that on September 24, 2001, ISO New England Inc. (the ISO) tendered for filing with the Federal Energy Regulatory Commission (Commission) a Refund Compliance Report pursuant to the Commission Order dated September 12, 2001.

Comment date: October 29, 2001, in accordance with Standard Paragraph E at the end of this notice.

4. Southern California Edison Company

[Docket No. ER02-79-000]

Take notice that on October 12, 2001, Southern California Edison Company (SCE) submitted to the Federal Energy Regulatory Commission (Commission) Letter Agreements between SCE and High Desert Power Project, LLC (High Desert), Pegasus Power Partners, LLC (Pegasus), Energy Unlimited, Inc. (Energy Unlimited) and Blythe Energy, LLC (Blythe).

These Agreements specify the terms and conditions under which SCE will provide limited pre-interconnection services including procurement, engineering, and limited construction. Copies of this filing were served upon the Public Utilities Commission of the State of California and High Desert, Pegasus, Energy Unlimited, and Blythe.

Comment date: November 2, 2001, in accordance with Standard Paragraph E at the end of this notice.

5. American Transmission Systems, Inc., Ohio Edison Company,The Cleveland, Electric Illuminating Company, and The Toledo Edison Company

[Docket No. ER02-80-000]

Take notice that on October 12, 2001, American Transmission Systems, Inc. tendered for filing with the Federal Energy Regulatory Commission (Commission) on behalf of itself and Ohio Edison Company, The Cleveland Electric Illuminating Company, and The Toledo Edison Company, a Service Agreement for Network Integration Service and Operating Agreement for the Network Integration Transmission Service under the Ohio Retail Electric Program with Sempra Energy Solutions pursuant to the American Transmission Systems, Inc. Open Access Tariff. This agreement will enable the party to obtain Network Integration Service under the Ohio Retail Electric Program in accordance with the terms of the Tariff. The proposed effective date under this agreement is October 10, 2001.

Comment date: November 2, 2001, in accordance with Standard Paragraph E at the end of this notice.

6. American Transmission Company LLC

[Docket No. ER02-81-000]

Take notice that on October 12, 2001, American Transmission Company LLC (ATCLLC) tendered for filing with the Federal Energy Regulatory Commission (Commission) a Revised Network Operating Agreement and a Revised Network Integration Service Agreement for Consolidated Water Power Company. ATCLLC requests an effective date of October 1, 2001.

Comment date: November 2, 2001, in accordance with Standard Paragraph E at the end of this notice.

7. Allegheny Energy Supply Company, LLC

[Docket No. ER02-82-000]

On behalf of Hatfield's Ferry, LLC

Take notice that on October 12, 2001, Allegheny Energy Supply Company, LLC, on behalf of its to-be-formed subsidiary, Hatfield's Ferry, LLC (Hatfield) filed with the Federal Energy Regulatory Commission (Commission) a market rate tariff of general applicability under which it proposes to sell capacity and energy to affiliates and non-affiliates at market-based rates, and to make such sales to franchised public utility affiliates at rates capped by a publicly available regional index price.

Hatfield requests an effective date no later than November 16, 2001, and also requests expedited Commission review so an order may be issued by November 16, 2001.

Copies of the filing have been provided to the Public Utilities Commission of Ohio, the Pennsylvania Public Utility Commission, the Maryland Public Service Commission, the Virginia State Corporation Commission, the West Virginia Public Service Commission, and all parties of record.

Comment date: November 2, 2001, in accordance with Standard Paragraph E at the end of this notice.

8. Duke Energy Vermillion, LLC

[Docket No. ER02-83-000]

Take notice that on October 12, 2001, Duke Energy Vermillion, LLC (Duke Vermillion) tendered for filing with the Federal Energy Regulatory Commission (Commission) pursuant to Section 205 of the Federal Power Act an executed Electric Energy And Ancillary Service Sales Agreement, dated as of September 13, 2001 between Duke Vermillion and the Duke Energy Trading and Marketing, LLC as a service agreement under the Duke Vermillion's FERC Electric Tariff No. 1.

Comment date: November 2, 2001, in accordance with Standard Paragraph E at the end of this notice.

9. Nevada Power Company

[Docket No. ER02-84-000]

Take notice that on October 12, 2001, Nevada Power Company (Nevada Power) filed with the Federal Energy Regulatory Commission (Commission), pursuant to Section 205 of the Federal Power Act, an executed Interconnection and Operation Agreement between Nevada Power and Duke Energy Moapa, LLC.

Comment date: November 2, 2001, in accordance with Standard Paragraph E at the end of this notice.

10. Lake Road Generating Company, L.P.

[Docket No. ER02-85-000]

Take notice that on October 12, 2001, Lake Road Generating Company, L.P. (Lake Road) tendered for filing with the Federal Energy Regulatory Commission (Commission) a service agreement for power sales (Service Agreement) with its affiliate, PG&E Energy Trading-Power, L.P. (PGET) pursuant to which Lake Road will sell capacity, energy and ancillary services to PGET at market-based rates according to its FERC Electric Tariff No. 1.

Comment date: November 2, 2001, in accordance with Standard Paragraph E at the end of this notice.

11. PG&E Dispersed Generating Company, LLC

[Docket No. ER02-86-000]

Take notice that on October 12, 2001, PG&E Dispersed Generating Company, LLC (PG&E Dispersed Gen) tendered for filing with the Federal Energy Regulatory Commission (Commission) a service agreement for power sales (Service Agreement) with its affiliate, PG&E Energy Trading-Power, L.P. (PGET) pursuant to which PG&E Dispersed Gen will sell capacity, energy and ancillary services to PGET at market-based rates according to its FERC Electric Tariff No. 1.

Comment date: November 2, 2001, in accordance with Standard Paragraph E at the end of this notice.

12. Millennium Power Partners, L.P.

[Docket No. ER02-87-000]

Take notice that on October 12, 2001, Millennium Power Partners, L.P. rendered for filing with the Federal Energy Regulatory Commission (Commission) a service agreement for power sales (Service Agreement) with its affiliate, PG&E Energy Trading-Power, L.P. pursuant to which Millennium will sell capacity, energy and ancillary services to PGET at market-based rates according to its FERC Rate Schedule No. 1.

Comment date: November 2, 2001, in accordance with Standard Paragraph E at the end of this notice.

13. Madison Windpower, LLC

[Docket No. ER02-88-000]

Take notice that on October 12, 2001, Madison Windpower, LLC (Madison) tendered for filing with the Federal Energy Regulatory Commission (FERC or Commission) a service agreement for power sales (Service Agreement) with its affiliate, PG&E Energy Trading-Power, L.P. (PGET) pursuant to which Madison will sell capacity, energy and ancillary services to PGET at market-based rates according to its FERC Electric Tariff No. 1.

Comment date: November 2, 2001, in accordance with Standard Paragraph E at the end of this notice.

14. Mountain View Power Partners, LLC

[Docket No. ER02-89-000]

Take notice that on October 12, 2001, Mountain View Power Partners, LLC (Mountain View) filed with the Federal Energy Regulatory Commission (FERC or Commission) a service agreement for power sales (Service Agreement) with its affiliate, PG&E Energy Trading-Power, L.P. (PGET) as required by the Commission in its letter Order of February 9, 2001. See Mountain View Power Partners, LLC, Docket No. ER01-1336-000 (delegated letter order issued February 9, 2001) (Section 205 Letter Order). See also Prior Notice and Filing Requirements Under Part II of the Federal Power Act, 64 FERC 61,139 clarified, 65 FERC 61,081 (1993) (permitting non-marketer public utilities with umbrella form of service agreements on file with the Commission to file individual, executed service agreements with the Commission within thirty days of commencing service). The Service Agreement commits Mountain View to sell capacity, energy and ancillary services to PGET at market-based rates according to its FERC Electric Tariff No. 1.

Comment date: November 2, 2001, in accordance with Standard Paragraph E at the end of this notice.

15. Williams Energy Marketing & Trading Company

[Docket No. ER02-91-000]

Take notice that on October 12, 2001, Williams Energy Marketing & Trading Company (Williams EM&T) made an informational filing with the Federal Energy Regulatory Commission (Commission) detailing and supporting their Annual Fixed Revenue Requirements and their Variable O&M Rates as required by Schedule F of the reliability Must Run Agreement with the California Independent System Operator (CAISO). Copies of the filing have been served upon the CAISO both in hard copy and electronic format. Williams EM&T requests an effective date of January 1, 2002.

Comment date: November 2, 2001, in accordance with Standard Paragraph E at the end of this notice.

16. Virginia Electric and Power Company

[Docket No. ER02-92-000]

Take notice that on October 12, 2001, Virginia Electric and Power Company, doing business as Dominion Virginia Power, tendered for filing with the Federal Energy Regulatory Commission (Commission) an unexecuted Generator Interconnection and Operating Agreement (Interconnection Agreement) with CPV Cunningham Creek LLC (CPV). The unexecuted Interconnection Agreement sets forth the terms and conditions governing the interconnection between a combustion turbine and steam cycle project to be constructed by CPV and Dominion Virginia Power's transmission system.

Dominion Virginia Power requests that the Commission accept this filing and make the Interconnection Agreement effective on December 11, 2001.

Copies of the filing were served upon CPV Cunningham Creek LLC and the Virginia State Corporation Commission.

Comment date: November 2, 2001, in accordance with Standard Paragraph E at the end of this notice.

17. Consumers Energy Company

[Docket No. ER02-94-000]

Take notice that on October 12, 2001 Consumers Energy Company (Consumers) tendered for filing with the Federal Energy Regulatory Commission (Commission) a Service Agreement with Nordic Marketing, L.L.C., (Customer) under Customer' FERC Electric Tariff No. 9 for Market Based Sales. Copies of the filing were served upon the Customer and the Michigan Public Service Commission.

Consumers requested that the Agreement be allowed to become effective as of September 26, 2001.

Comment date: November 2, 2001, in accordance with Standard Paragraph E at the end of this notice.

18. Power Resource Group, Inc.

[Docket No. ER02-95-000]

Take notice that on October 12, 2001, Power Resource Group, Inc. (PRG) tendered for filing with the Federal Energy Regulatory Commission (Commission) an application for waivers and blanket approvals under various regulations of the Commission and for an order accepting its market-based rate schedule, Rate Schedule FERC No. 1, Original Volume No. 1. PRG proposes that its Rate Schedule FERC No. 1, Original Volume No. 1 become effective October 15, 2001, which is one business day after the date of filing.

Comment date: November 2, 2001, in accordance with Standard Paragraph E at the end of this notice.

19. Virginia Electric and Power Company

[Docket No. ER02-96-000]

Take notice that on October 12, 2001, Virginia Electric and Power Company (Dominion Virginia Power or the Company) tendered for filing with the Federal Energy Regulatory Commission (Commission) a Service Agreement for Firm Point-to-Point Transmission Service by Virginia Electric and Power Company to Pepco Energy Services designated as Service Agreement No. 343 under the Company's Retail Access Pilot Program, pursuant to Attachment L of the Company's Open Access Transmission Tariff, FERC Electric Tariff, Second Revised Volume No. 5, to Eligible Purchasers effective June 7, 2000. Copies of the filing were served upon Pepco Energy Services, the Virginia State Corporation Commission, and the North Carolina Utilities Commission.

Dominion Virginia Power requests an effective date of October 1, 2001, the date requested by the customer.

Comment date: November 2, 2001, in accordance with Standard Paragraph E at the end of this notice.

20. Doyle I, L.L.C. Walton Electric Membership Corporation

[Docket No. EC02-3-000]

Take notice that on October 12, 2001, Doyle I, L.L.C. (Doyle) (on behalf of Power Generation Investco, L.L.C. (Investco) and Enron North America Corp. (ENA) and Walton Electric Membership Corporation (Walton) filed with the Federal Energy Regulatory Commission (Commission) an application pursuant to section 203 of the Federal Power Act for authorization of a disposition of jurisdictional facilities whereby Investco will transfer all of the membership interests it holds in Doyle to Walton through an LLC Interest Purchase Agreement. Applicants request confidential treatment of Exhibit I, pursuant to 18 CFR 388.112 of the Commission's regulations, for the written instruments associated with the proposed disposition.

Comment date: November 2, 2001, in accordance with Standard Paragraph E at the end of this notice.

21. Niagara Mohawk Holdings, Inc. Select Energy, Inc.

[Docket No. EC02-4-000]

Take notice that on October 12, 2001, Niagara Mohawk Holdings, Inc. and Select Energy, Inc. filed with the Federal Energy Regulatory Commission an application pursuant to section 203 of the Federal Power Act for authorization of a disposition of jurisdictional facilities whereby Select Energy will acquire all of the common stock of Niagara Mohawk Energy Marketing, Inc., an indirect, wholly owned subsidiary of Niagara Mohawk Holdings, Inc. and an indirect change of control of the jurisdictional facilities of Niagara Mohawk Energy Marketing, Inc. will occur as a result of the proposed stock transfer.

Comment date: November 2, 2001, in accordance with Standard Paragraph E at the end of this notice.

22. Vermont Yankee Nuclear Power Corporation and Entergy Nuclear Vermont Yankee, LLC

[Docket No. EC02-5-000]

Take notice that on October 12, 2001, Vermont Yankee Nuclear Power Corporation (VYNPC) and Entergy Nuclear Vermont Yankee, LLC (Entergy Nuclear VY) filed with the Federal Energy Regulatory Commission (Commission), an application pursuant to section 203 of the Federal Power Act for authorization of a disposition of jurisdictional facilities whereby VYNPC will divest, and Entergy Nuclear VY will acquire, the 510 megawatt Vermont Yankee Nuclear Power Station located in Vernon, Vermont, including the facility's appurtenant interconnection facilities.

Comment date: November 2, 2001, in accordance with Standard Paragraph E at the end of this notice.

23. Boston Edison Company

[Docket Nos. EL93-10-000,013 and ER93-150-000, 020]

Take notice that on October 12, 2001, Boston Edison Company (Boston Edison) tendered for filing with the Federal Energy Regulatory Commission (Commission), in compliance with the Commission's September 13, 2001 order in Docket Nos. EL93-10-000, 010 and EL93-150-000, 017, a refund report and notices of cancellation in connection with services it had provided to Commonwealth Electric Company and Montaup Electric Company pursuant to Pilgrim Unit sale contracts with those utilities (FPC Rate Schedule Nos. 68 and 69, respectively).

Copies of the filing were served upon Commonwealth Electric Company and National Grid USA (the successor to Montaup Electric Company).

Comment date: November 2, 2001, in accordance with Standard Paragraph E at the end of this notice.

24. Mirant Chalk Point, LLC; Mirant Mid-Atlantic, LLC; Mirant Peaker, LLC; Mirant Potomac River, LLC

[Docket No. EL01-97-001]

Mirant Americas Energy Marketing, L.P., Potomac Electric Power Company

[Docket No. ER01-2634-001]

Take notice that on October 15, 2001, Mirant Americas Energy Marketing, L.P. (Mirant Americas) and Potomac Electric Power Company jointly tendered for filing with the Federal Energy Regulatory Commission (Commission), in accordance with the Commission's order issued on September 14, 2001, in the above-captioned docket, two service agreements pursuant to Mirant Americas' FERC Electric Market Rate Tariff, Original Volume No. 1.

Comment date: November 5, 2001, in accordance with Standard Paragraph E at the end of this notice.

25. Pacific Gas and Electric Company

[Docket Nos. ER91-505-007 and EL92-18-004]

Take notice that on October 12, 2001, Pacific Gas and Electric Company (PG&E) tendered for filing modifications to the Supplements to PG&E Rate Schedule FERC No. 143, the Principles for Tesla-Midway Transmission Service (SOTP) between PG&E and Transmission Agency of Northern California (TANC) in compliance with Orders of the Federal Energy Regulatory Commission (Commission) in Docket Nos. ER91-505-001 and EL92-18-000. The modifications are detailed in the redline version of the Supplements submitted in this filing.

Copies of this filing have been served upon the California Public Utilities Commission and to the parties designated on the service list compiled by the Commission in FERC Docket Nos. ER91-505-000 and EL92-18-000.

Comment date: November 2, 2001, in accordance with Standard Paragraph E at the end of this notice.

Standard Paragraph

E. Any person desiring to be heard or to protest such filing should file a motion to intervene or protest with the Federal Energy Regulatory Commission, 888 First Street, N.E., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26668 Filed 10-22-01; 8:45 am]

BILLING CODE 6717-01-P